DEPARTMENT OF HEALTH AND HUMAN SERVICES

Centers for Disease Control and Prevention

Board of Scientific Counselors, Coordinating Center for Infectious Diseases (CCID)

In accordance with section 10(a)(2) of the Federal Advisory Committee Act (Pub. L. 92-463), the Centers for Disease Control and Prevention (CDC) announces the following meeting of the aforementioned committee.

Times and Dates: 9 a.m.-5 p.m., October 31, 2007; 8:30 a.m.-3:30 p.m., November 1, 2007

Place: CDC, Building 19, 1600 Clifton Road, NE., Atlanta, Georgia 30333.

Status: Open to the public, limited only by the space available.

Purpose: The Board of Scientific Counselors, Coordinating Center for Infectious Diseases (CCID), provides advice and guidance to the Director, CDC, and Director, CCID, in the following areas: program goals and objectives, strategies, program organization and resources for infectious disease prevention and control, and program priorities.

Matters To Be Discussed: Agenda items will include:

1. Breakout Group Discussions:

A. Laboratory Preparedness and Sustainability, National Center for Prevention, Detection, and Control of Infectious Diseases.

B. Influenza Diagnostics Program, National Center for Immunization, and Respiratory Diseases (NCIRD).

C. Immunization Assessment and Coverage, NCIRD.

D. Strategic Surveillance, National Center for HIV/AIDS, Viral Hepatitis, STD, and TB Prevention.

E. Infectious Disease Ecology, National Center for Zoonotic, Vector-Borne, and Enteric Diseases.

2. Surveillance Systems.

3. CCID Updates.

4. Budget Updates.

Other agenda items include announcements and introductions, follow-up on actions recommended by the Board from March 2007, consideration of future directions, goals, and recommendations.

Agenda items are subject to change as priorities dictate.

Written comments are welcome and should be received by the contact person listed below prior to the opening of the meeting.

Contact Person for More Information: Harriette Lynch, Office of the Director, NCID, CDC, Mailstop A-45, 1600 Clifton Road, NE., Atlanta, Georgia 30333, e-mail: HLynch@cdc.gov, telephone 404/639-4035.

The Director, Management Analysis and Services Office has been delegated the authority to sign Federal Register notices pertaining to announcements of meetings and other committee management activities, for both the Centers for Disease Control and Prevention and the Agency for Toxic Substances and Disease Registry.

Dated: September 26, 2007.
Elaine L. Baker,
Acting Director, Management Analysis and Services Office, Centers for Disease Control and Prevention.

[FR Doc. E7-19403 Filed 10-1-07; 8:45 am]

BILLING CODE 4163-18-P